INTERNATIONAL TRADE COMMISSION

[Investigation No. 332-493]

Advice Concerning Possible Modifications to the U.S. Generalized System of Preferences, 2007 Review of Additions and Removals

AGENCY: United States International Trade Commission.

ACTION: Change in scope of investigation.

SUMMARY: Following receipt of a letter on November 26, 2007, from the United States Trade Representative (USTR) advising of the withdrawal of petitions requesting the addition of the following three articles to the list of articles eligible for duty-free treatment under the Generalized System of Preferences (GSP) program, the Commission has terminated its investigation with respect to those three articles and will not provide probable economic effect advice with respect to those articles:

Molybdenum ores and concentrates, roasted (HTS subheading 2613.10.00, USTR accepted case 2007-01);

Molybdenum ores and concentrates, other (HTS subheading 2613.90.00, USTR accepted case 2007-02); and

Other synthetic organic pigments and coloring preparations (HTS subheading 3204.17.90, USTR accepted case 2007-04).

The Commission expects to transmit its report to the USTR providing its advice with respect to the remaining articles that are the subject of the USTR's request for advice by December 19, 2007.

ADDRESSES: All Commission offices, including the Commission's hearing rooms, are located in the United States International Trade Commission Building, 500 E Street, SW., Washington, DC. All written submissions should be addressed to the Secretary, United States International Trade Commission, 500 E Street, SW., Washington, DC 20436. The public record for this investigation may be viewed on the Commission's electronic docket (EDIS) at http://www.usitc.gov/secretary/edis.htm.

FOR FURTHER INFORMATION CONTACT: Information may be obtained from Cynthia B. Foreso, Project Leader, Office of Industries (202-205-3348 or cynthia.foreso@usitc.gov) or Eric Land, Deputy Project Leader, Office of Industries (202-205-3349 or eric.land@usitc.gov). For more information on legal aspects of the investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). The public record for this investigation may be viewed on the Commission's electronic docket (EDIS-ONLINE) at http://www.usitc.gov/secretary/edis.htm. Persons with mobility impairments who will need special assistance in gaining access to the Commission should contact the Office of the Secretary at 202-205-2000.

Background: The Commission instituted the investigation on September 12, 2007, following receipt of a letter from the USTR on September 6, 2007. Notice of institution of the investigation and the scheduling of a public hearing (which was held on October 16, 2007) was published in the Federal Register of September 19, 2007 (72 F.R. 53604). The notice indicated that the Commission would provide advice with respect to the addition of nine articles and advice with respect to the removal of two articles. The Commission will provide its advice with respect to the addition of the six remaining articles and removal of the two articles by December 19, 2007. The deadline for filing written submissions in this investigation was October 24, 2007.

By order of the Commission.
Issued: November 30, 2007.
Marilyn R. Abbott,
Secretary to the Commission.

[FR Doc. E7-23560 Filed 12-4-07; 8:45 am]

BILLING CODE 7020-02-P